DEPARTMENT OF THE INTERIOR

Minerals Management Service

Outer Continental Shelf (OCS) Scientific Committee of the Minerals Management Advisory Board; Announcement of Plenary Session

AGENCY: Minerals Management Service, Interior.

ACTION: Notice of meeting.

SUMMARY: The Minerals Management Advisory Board OCS Scientific Committee will meet at the Hilton Anchorage Hotel in Anchorage, Alaska.

DATES: Tuesday, April 22, 2003, from 8:30 a.m. to 5 p.m., Wednesday, April 23, from 7:45 a.m. to 3:15 p.m., and Thursday, April 24, from 8:30 a.m. to 5 p.m.

ADDRESSES: Hilton Anchorage Hotel, 500 West Third Avenue, Anchorage, Alaska 99501, telephone (907) 272-7411.

FOR FURTHER INFORMATION CONTACT: A copy of the agenda may be requested from MMS by calling Ms. Carolyn Beamer at (703) 787-1211. Other inquiries concerning the OCS Scientific Committee meeting should be addressed to Dr. James Kendall, Executive Secretary to the OCS Scientific Committee, Minerals Management Service, 381 Elden Street, Mail Stop 4043, Herndon, Virginia 20170-4817 or by calling (703) 787-1656.

SUPPLEMENTARY INFORMATION: The OCS Scientific Committee is an outside group of non-Federal scientists which advises the Director, MMS, on the feasibility, appropriateness, and scientific merit of the MMS OCS Environmental Studies Program as it relates to information needed for informed OCS decisionmaking.

The Committee will meet in plenary session on Tuesday, April 22. Presentations will be made by the Deputy Associate Director for Offshore Minerals Management and the Director, Coastal Marine Institute, University of Alaska Fairbanks. Other presentations and discussions will focus on the draft recommendations of the U.S. Commission on Ocean Policy, a report from the OCS Policy Committee, and updates on the OCS Scientific Committee's Mercury Subcommittee and Sand and Gravel Subcommittee. The remainder of the day will focus on presentations by the MMS OCS Regional Offices on their research priorities and information needs in the context of regional decisionmaking.

On Wednesday, April 23, the Committee will meet in discipline breakout sessions (i.e., physical oceanography, biology, and socioeconomics) to review the specific research plans of the regional offices for Fiscal Years 2004 and 2005.

On Thursday, April 24, the Committee will meet in plenary session for presentations from the Alaska OCS Region's Information Transfer Meeting held March 10-12, 2003, and for reports of the discipline breakout sessions of the previous day. In the afternoon, the plenary session will continue with Committee Business.

The meetings are open to the public. Approximately 30 visitors can be accommodated on a first-come-first-served basis at the plenary session.

Authority: Federal Advisory Committee Act, Pub. L. 92-463, 5 U.S.C., Appendix I, and the Office of Management and Budget's Circular A-63, Revised.

Dated: March 20, 2003.
Thomas A. Readinger,
Associate Director for Offshore Minerals Management.

[FR Doc. 03-7125 Filed 3-25-03; 8:45 am]

BILLING CODE 4043-MR-P